DEPARTMENT OF THE INTERIOR

Minerals Management Service

Chukchi Sea Planning Area Oil and Gas Lease Sale 193 and Seismic Surveying Activities in the Chukchi Sea

AGENCY: Minerals Management Service (MMS), Interior.

ACTION: Notice of Availability of a Draft Environmental Impact Statement (DEIS) and associated Public Hearings.

SUMMARY: The purpose of the proposed Federal action addressed in this DEIS (OCS EIS/EA MMS 2006-060) is to offer for lease areas in the Chukchi Sea Outer Continental Shelf (OCS) that might contain economically recoverable oil and gas resources. This lease sale would provide qualified bidders the opportunity to bid on certain blocks in the Chukchi Sea OCS to gain conditional rights to explore, develop, and produce oil and natural gas. This DEIS is the National Environmental Policy Act (NEPA) analysis to enable the Minerals Management Service (MMS) to make informed decisions on the configuration of the lease sale and the applicable mitigation measures. In the DEIS, the potential direct, indirect, and cumulative environmental impacts of the sale, including estimated exploration and development and production activities related to the sale, on the physical, biological, and human environments in the Chukchi Sea area are analyzed. The DEIS also provides NEPA evaluation for exploration activities in the Chukchi Sea, including seismic survey geophysical permitting (30 CFR 251), ancillary activities (30 CFR 250.207), and exploration plans (30 CFR 250.214). In addition, the DEIS will provide NEPA documentation for the U.S. Department of Commerce, National Oceanic and Atmospheric Administration, National Marine Fisheries Service's (NMFS) possible issuance of Incidental Harassment Authorizations to the seismic-survey industry to take marine mammals by harassment, incidental to conducting prelease and ancillary on-lease oil and gas seismic surveys in the Chukchi Sea. To address its NEPA responsibilities, the NMFS agreed to become a cooperating agency (as that term is defined in 40 CFR 1501.6) and proposes to adopt the DEIS as authorized by 40 CFR 1506.3 as its own NEPA statement.

SUPPLEMENTARY INFORMATION: In this DEIS, the MMS has examined the potential environmental effects of the Proposed Action and its alternatives. The Proposed Action (Alternative I) is to conduct Chukchi Sea OCS Lease Sale 193 in 2007. The resource estimates and scenario information included in this DEIS analysis are presented as a range of activities that could be associated with the sale, including exploration seismic surveying, on-lease ancillary activities, exploration and delineation drilling, development and production of OCS oil and gas resources, and lease abandonment. The Proposed Action would offer for lease approximately 6,155 whole and partial blocks (about 34 million acres) identified as the program area in the 2002-2007 5-Year Program. The proposed Sale 193 area excludes a 15- to 50-mile (mi)-wide corridor along the coast, the polynya or spring lead system. Water depths in the sale area vary from about 95 feet (ft) to approximately 262 ft. A small portion of the northeast corner of the area deepens to approximately 9,800 ft.

Alternative II (No Lease Sale) is equivalent to cancellation of the Proposed Action as scheduled in the approved 5-Year Program. The opportunity for development of the estimated oil and gas resources that could have resulted from the Proposed Action would be precluded or postponed, and any potential environmental impacts resulting from the Proposed Action would not occur or would be postponed.

Alternative III (Corridor I Deferral) is the Proposed Action excluding an area comprising approximately 1,649 whole or partial blocks along the coastward edge of the sale area. This alternative would attempt to reduce potential impacts to subsistence hunting as well as various wildlife species and associated habitats.

Alternative IV (Corridor II Deferral) is the Proposed Action excluding an area comprising approximately 795 whole or partial blocks along the coastward edge of the sale area. This alternative was developed as a result of the 1987 Biological Opinion for the Chukchi Sea as recommended by the NMFS.

The MMS also examines potential environmental effects of prelease seismic survey geophysical permitting. The DEIS includes an analysis of a range of mitigation alternatives for seismic surveys which were previously considered in the Programmatic Environmental Assessment Arctic Ocean Outer Continental Shelf Seismic Surveys—2006. Commenters are invited to identify additional alternatives for MMS's consideration. The Endangered Species Act (ESA) consultation with the U.S. Fish and Wildlife Service concerning Spectacled and Steller's eiders is ongoing. The NMFS concluded in its Arctic Region Biological Opinion, dated June 2006, that leasing and exploration activities are not likely to jeopardize the continued existence of the threatened, endangered, or candidate species under their jurisdiction; however, the potential additive effects of oil and gas activities associated with exploration, production, and transportation throughout the Chukchi Sea and neighboring Beaufort Sea is of concern. The NMFS concluded further that activities associated with seismic surveys in the Chukchi Sea may adversely affect but not jeopardize the continued existence of any species listed under the ESA that are under the jurisdiction of the NMFS.

DEIS Availability: To obtain a copy of the DEIS, you may contact the Minerals Management Service, Alaska OCS Region, 3801 Centerpoint Drive, Suite 500, Anchorage, Alaska 99503-5820, telephone (907) 334-5200. You may also view the DEIS on the MMS Web site at http://www.mms.gov/alaska or at the following locations:

Alaska Pacific University, Academic Support Center Library, 4101 University Drive, Anchorage, Alaska;

Alaska Resources Library and Information Service (ARLIS), 3211 Providence Drive, Suite 111, Anchorage, Alaska;

Alaska State Library, Government Publications, State Office Building, 333 Willoughby, Juneau, Alaska;

City of Point Hope, P.O. Box 169, Point Hope, Alaska;

City of Wainwright, P.O. Box 9, Wainwright, Alaska;

Fairbanks North Star Borough, Noel Wien Library, 1215 Cowles Street, Fairbanks, Alaska;

Northern Alaska Environmental Center Library, 218 Driveway, Fairbanks, Alaska;

Point Lay Tribal Council, P.O. Box 59031 Point Lay, Alaska;

Tuzzy Consortium Library, P.O. Box 749, Barrow, Alaska;

U.S. Environmental Protection Agency, Region 10 Library, 1200 6th Avenue, OMP-104, Seattle, Washington;

University of Alaska Anchorage, Consortium Library, 3211 Providence Drive, Anchorage, Alaska;

University of Alaska Fairbanks, Elmer E. Rasmuson Library, Government Documents, 310 Tanana Drive, Fairbanks, Alaska;

University of Alaska Fairbanks, Geophysical Institute, Government Documents, Fairbanks, Alaska;

Z. J. Loussac Library, 3600 Denali Street, Anchorage, Alaska.

Written Comments: Interested parties may submit their written comments on this DEIS until December 15, 2006 to the Regional Director, Alaska OCS Region, Minerals Management Service, 3801 Centerpoint Drive, Suite 500, Anchorage, Alaska 99503-5820, or online at http://ocsconnect.mms.gov. Our practice is to make comments, including names and home addresses of respondents available for public review. Individual commenters may ask that we withhold their name, home address, or both from the public record, and we will honor such a request to the extent allowable by law. If you submit comments and wish us to withhold such information, you must state so prominently at the beginning of your submission. We will not consider anonymous comments, and we will make available for inspection in their entirety all comments submitted by organizations or businesses or by individuals identifying themselves as representatives of organizations or businesses.

Public Hearings: Public hearings will be held to receive comments on the DEIS. The hearings will provide the MMS with additional information that will help in evaluating potential effects of the leasing program in the Chukchi Sea. The locations and dates of the public hearings are as follows:

• Wainwright, Alaska. November 13, 2006, at the Robert James Community Center, 7 p.m., contact: Mr. Albert Barros, (907) 334-5209.

• Point Lay, Alaska. November 14, 2006, at the Point Lay Community Center, 7 p.m., contact: Mr. Albert Barros, (907) 334-5209.

• Point Hope, Alaska. November 15, 2006, at the Kalgi Center, 7 p.m., contact: Mr. Albert Barros, (907) 334-5209.

• Barrow, Alaska. November 16, 2006, at the Inupiat Heritage Center, 7 p.m., contact: Mr. Albert Barros, (907) 334-5209.

• Anchorage, Alaska. December 6, 2006, at the Centerpoint Building, 3801 Centerpoint Drive, 1st Floor Conference Room, 7 p.m., contact: Mr. Albert Barros, (907) 334-5209.

FOR FURTHER INFORMATION CONTACT: Minerals Management Service, Alaska OCS Region, 3801 Centerpoint Drive, Suite 500, Anchorage, Alaska 99503-5820, Ms. Deborah Cranswick, telephone (907) 334-5267.

Dated: September 29, 2006.
Robert P. LaBelle,
Acting Associate Director for Offshore Minerals Management.

[FR Doc. E6-17242 Filed 10-13-06; 8:45 am]

BILLING CODE 4310-MR-P